DEPARTMENT OF ENERGY

Federal Energy Regulatory Commission

Combined Notice of Filings

Take notice that the Commission has received the following Natural Gas Pipeline Rate and Refund Report filings:

Filings Instituting Proceedings

Docket Numbers: PR22-67-000.

Applicants: Comanche Trail Pipeline, LLC.

Description: § 284.123(g) Rate Filing: Comanche Trail Pipeline, LLC. Certification of Unchanged State Rates, 10/1/2022 to be effective 10/1/2022.

Filed Date: 9/22/22.

Accession Number: 20220922-5068.

Comment Date: 5 p.m. ET 10/13/22.

§ 284.123(g) Protest: 5 p.m. ET 11/21/22.

Docket Numbers: PR22-68-000.

Applicants: Trans-Pecos Pipeline, LLC.

Description: § 284.123(g) Rate Filing: Trans-Pecos Pipeline, LLC Certification of Unchanged State Rates, 10/1/2022 to be effective 10/1/2022.

Filed Date: 9/22/22.

Accession Number: 20220922-5069.

Comment Date: 5 p.m. ET 10/13/22.

§ 284.123(g) Protest: 5 p.m. ET 11/21/22.

Docket Numbers: RP22-1236-000.

Applicants: Midcontinent Express Pipeline LLC.

Description: § 4(d) Rate Filing: Non-Conforming FTS to be effective 11/1/2022.

Filed Date: 9/23/22.

Accession Number: 20220923-5005.

Comment Date: 5 p.m. ET 10/5/22.

Docket Numbers: RP22-1237-000.

Applicants: Guardian Pipeline, L.L.C.

Description: § 4(d) Rate Filing: EPCR Semi-Annual Adjustment—Fall 2022 to be effective 11/1/2022.

Filed Date: 9/23/22.

Accession Number: 20220923-5022.

Comment Date: 5 p.m. ET 10/5/22.

Docket Numbers: RP22-1238-000.

Applicants: Midwestern Gas Transmission Company.

Description: § 4(d) Rate Filing: Annual Load Management Service Cost Reconciliation Adjustment—2022 to be effective 11/1/2022.

Filed Date: 9/23/22.

Accession Number: 20220923-5023.

Comment Date: 5 p.m. ET 10/5/22.

Docket Numbers: RP22-1239-000.

Applicants: Viking Gas Transmission Company.

Description: § 4(d) Rate Filing: Semi-Annual Fuel and Loss Retention Percentage Adjustment—Winter 2022 to be effective 11/1/2022.

Filed Date: 9/23/22.

Accession Number: 20220923-5024.

Comment Date: 5 p.m. ET 10/5/22.

Docket Numbers: RP22-1240-000.

Applicants: Guardian Pipeline, L.L.C.

Description: § 4(d) Rate Filing: Transporters Use Gas Annual Adjustment—Fall 2022 to be effective 11/1/2022.

Filed Date: 9/23/22.

Accession Number: 20220923-5029.

Comment Date: 5 p.m. ET 10/5/22.

Docket Numbers: RP22-1241-000.

Applicants: Algonquin Gas Transmission, LLC.

Description: Compliance filing: AGT SEP 2022 OFO Penalty Disbursement Report to be effective N/A.

Filed Date: 9/23/22.

Accession Number: 20220923-5034.

Comment Date: 5 p.m. ET 10/5/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding. The filings are accessible in the Commission's eLibrary system (https://elibrary.ferc.gov/idmws/search/fercgensearch.asp) by querying the docket number. eFiling is encouraged. More detailed information relating to filing requirements, interventions, protests, service, and qualifying facilities filings can be found at: http://www.ferc.gov/docs-filing/efiling/filing-req.pdf. For other information, call (866) 208-3676 (toll free). For TTY, call (202) 502-8659.

Dated: September 23, 2022.
Kimberly D. Bose,
Secretary.

[FR Doc. 2022-21152 Filed 9-28-22; 8:45 am]

BILLING CODE 6717-01-P